DEPARTMENT OF AGRICULTURE

Forest Service

Black Hills National Forest Advisory Board Public Meeting Dates Announced

AGENCY: Forest Service, USDA.

ACTION: Notice of meetings.

SUMMARY: The Black Hills National Forest Advisory Board (NFAB) has announced its meeting dates for 2009. These meetings are open to the public, and public comment is accepted at any time in writing, at the pleasure of the Chair, and during the last 15 minutes of each meeting, limited to three (3) minutes per person for oral comments. Meeting dates are the third Wednesday of each month unless otherwise indicated:

January 7 (Previously announced);

February 18;

March 18;

April 15;

May 20;

June 17;

July 15;

August 19 (Summer Field Trip—TBA);

September 16;

October 21;

November 18;

December No meeting;

January 6, 2010 (Tentative).

ADDRESSES: Meetings will be begin at 1 PM and end no later than 5 PM at the Forest Service Center, 8221 S. Highway 16, Rapid City, SD 57731.

Agendas: The Board will consider a variety of issues related to national forest management. Agendas will be announced in advance but principally concern implementing phase two of the forest land and resource management plan. The Board will consider such topics as integrated vegetation management (wild and prescribed fire, fuels reduction, controlling insect epidemics, invasive species), travel management (off highway vehicles, the new OHV rule, and related topics), and continuing access to multiple-use management of public lands, among others.

FOR FURTHER INFORMATION CONTACT: Frank Carroll, Committee Management Officer, Black Hills National Forest, 25041 North Highway 16, Custer, SD, 57730, (605) 673-9200.

Dated: December 15, 2008.
Craig Bobzien,
Forest Supervisor.

[FR Doc. E8-30436 Filed 12-22-08; 8:45 am]

BILLING CODE 3410-11-M